DEPARTMENT OF TRANSPORTATION

Surface Transportation Board

[Docket No. AB 1077X]

Wiregrass Central Railway, LLC—Abandonment Exemption—in Coffee County, AL

On November 9, 2011, Wiregrass Central Railway, LLC (WCR) filed with the Surface Transportation Board (Board) a petition under 49 U.S.C. 10502 to exempt from the prior approval requirements of 49 U.S.C. 10903 WCR's abandonment of a 1.2-mile line of railroad extending between milepost 820.0 and milepost 821.2 in Enterprise, in Coffee County, Ala. (the line).¹ The line traverses United States Postal Service Zip Code 36330 and includes no stations.

¹ The line is part of a 21.2-mile rail line that WCR acquired from Wiregrass Central Railroad Company, Inc. See Wiregrass Cent. Ry.—Acquis. & Operation Exemption—Wiregrass Cent. R.R., FD 35489 (STB served Apr. 22, 2011).

WCR states that, based on information in WCR's possession, the line does not contain Federally granted rights-of-way. Any documentation in WCR's possession will be made available promptly to those requesting it.

The interests of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by February 27, 2012.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than December 19, 2011. Each trail request must be accompanied by a $250 filing fee. See 49 CFR 1002.2(f)(27).

All filings in response to this notice must refer to Docket No. AB 1077X and must be sent to: (1) Surface Transportation Board, 395 E Street SW., Washington, DC 20423-0001; and (2) Melanie B. Yasbin, 600 Baltimore Avenue, Suite 301, Towson, MD 21204. Replies to the petition are due on or before December 19, 2011.

Persons seeking further information concerning abandonment procedures may contact the Board's Office of Public Assistance, Governmental Affairs and Compliance at (202) 245-0238 or refer to the full abandonment regulations at 49 CFR pt. 1152. Questions concerning environmental issues may be directed to the Board's Office of Environmental Analysis (OEA) at (202) 245-0305. Assistance for the hearing impaired is available through the Federal Information Relay Service (FIRS) at 1-(800) 877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: November 17, 2011.
By the Board.
Rachel D. Campbell,
Director, Office of Proceedings.
Raina S. White,
Clearance Clerk.

[FR Doc. 2011-30295 Filed 11-28-11; 8:45 am]

BILLING CODE 4915-01-P